DEPARTMENT OF HEALTH AND HUMAN SERVICES

Health Resources and Services Administration

Advisory Committee on Training in Primary Care Medicine and Dentistry

AGENCY: Health Resources and Services Administration (HRSA), Department of Health and Human Services (HHS).

ACTION: Notice of meeting.

SUMMARY: The Advisory Committee on Training in Primary Care Medicine and Dentistry (ACTPCMD) has scheduled a meeting. This meeting will be open to the public. Information about ACTPCMD and the agenda for this meeting can be found on the ACTPCMD Web site at http://www.hrsa.gov/advisorycommittees/bhpradvisory/ACTPCMD.

DATES: August 16, 2017, 10:00 a.m.-2:30 p.m. ET.

ADDRESSES: This meeting will be held by webinar and teleconference. The address for the meeting is 5600 Fishers Lane, Rockville, Maryland 20857.

• The webinar link: https://hrsa.connectsolutions.com/actpcmd.

• The conference call-in number: 1-888-946-3804. Passcode: 3214611.

FOR FURTHER INFORMATION CONTACT: Anyone requesting information regarding ACTPCMD should contact Kennita R. Carter, MD, Designated Federal Officer (DFO), Division of Medicine and Dentistry, Bureau of Health Workforce, HRSA, in one of three ways: (1) Send a request to the following address: Kennita R. Carter, MD, DFO, Division of Medicine and Dentistry, HRSA, 5600 Fishers Lane, 15N-116, Rockville, Maryland 20857; (2) call 301-945-3505; or (3) send an email to KCarter@hrsa.gov.

SUPPLEMENTARY INFORMATION: ACTPCMD provides advice and recommendations to the Secretary of HHS (Secretary) on policy, program development, and other matters of significance concerning the activities under section 747 of Title VII of the Public Health Service (PHS) Act, including dentistry activities. ACTPCMD prepares an annual report describing the activities of the Committee, including findings and recommendations made by the Committee concerning the activities under section 747, including dentistry activities. The annual report is submitted to the Secretary and ranking members of the Senate Committee on Health, Education, Labor and Pensions, and the House of Representatives Committee on Energy and Commerce. The Committee also develops, publishes, and implements performance measures and guidelines for longitudinal evaluations of programs authorized under Title VII, Part C, of the PHS Act, and recommends appropriation levels for programs under this Part.

During the August 16, 2017, meeting, ACTPCMD will discuss issues related to the Committee reports under development. Agenda items are subject to change as priorities dictate.

Members of the public will have the opportunity to provide comments. Public participants may submit written statements in advance of the scheduled meeting. Oral comments will be honored in the order they are requested and may be limited as time allows. Requests to submit a written statement or make oral comments to ACTPCMD should be sent to Kennita R. Carter, MD, DFO, using the contact information above at least 3 business days prior to the meeting.

Individuals who need special assistance or another reasonable accommodation should notify Dr. Kennita R. Carter at the address and phone number listed above at least 10 days prior to the meeting.

Amy McNulty,
Acting Director, Division of the Executive Secretariat.

[FR Doc. 2017-15665 Filed 7-25-17; 8:45 am]

BILLING CODE 4165-15-P